DEPARTMENT OF ENERGY

Federal Energy Regulatory Commission

[Project No. 12857-002; Project No. 14073-000]

FFP Project 18, LLC, Northland Power Mississippi River LLC; Notice Announcing Preliminary Permit Drawing

The Commission has received two preliminary permit applications deemed filed on February 1, 2011, at 8:30 a.m.,¹ for proposed projects to be located on the Mississippi River, in St. James Parish, Louisiana. The applications were filed by FFP Project 18, LLC for Project No. 12857-002, and Northland Power Mississippi River LLC for Project No. 14073-000.

¹ Under the Commission's Rules of Practice and Procedure, any document received after regular business hours is considered filed at 8:30 a.m. on the next regular business day. 18 CFR 385.2001(a)(2) (2011).

On January 17, 2012, at 9 a.m. (eastern time), the Secretary of the Commission, or her designee, will conduct a random drawing to determine the filing priority of the applicants identified in this notice. The Commission will select among competing permit applications as provided in section 4.37 of its regulations.² The priority established by this drawing will be used to determine which applicant, among those with identical filing times, will be considered to have the first-filed application.

² 18 CFR 4.37 (2011).

The drawing is open to the public and will be held in room 2C, the Commission Meeting Room, located at 888 First St. NE., Washington, DC 20426. A subsequent notice will be issued by the Secretary announcing the results of the drawing.

Dated: January 10, 2012.
Nathaniel J. Davis, Sr.,
Deputy Secretary.

[FR Doc. 2012-695 Filed 1-13-12; 8:45 am]

BILLING CODE 6717-01-P